DEPARTMENT OF COMMERCE

Submission for OMB Review; Comment Request

The Department of Commerce (DoC) has submitted to the Office of Management and Budget (OMB) for clearance the following proposal for collection of information under the provisions of the Paperwork Reduction Act (44 U.S.C. Chapter 35).

Agency: National Institute of Standards and Technology (NIST).

Title: Evaluation of the Common Industry Format for Reporting the Results of Usability Tests.

Agency Form Numbers(s): None.

OMB Approval Number: None.

Type of Request: New collection.

Burden Hours: 120.

Number of Respondents: 30.

Average Hours Per Response: 4.

Needs and Uses: The Industry Usability Reporting project sponsored by NIST has developed the Common Industry Format (CIF) to facilitate the exchange of usability testing data. The proposed format needs to be tested for utility and validity. The goal of this research project is to determine which types of metrics are best able to measure the effect of using the CIF to report usability data. Computer applications and websites are suitable targets for evaluation. The results will be evaluated by NIST researchers in to determine the degree of consistency among reports that target a common application or website and develop a set of metrics that can be used to predict utility for a software vendor company and/or software consumer company.

Frequency: Once.

Respondent's Obligation: Voluntary.

OMB Desk Officer: David Rostker, (202) 395-3897.

Copies of the above information collection proposal can be obtained by calling or writing Linda Engelmeier, DoC Forms Clearance Officer, (202) 482-3272, Department of Commerce, Room 5027, 14th and Constitution Avenue, NW, Washington, DC 20230 (or via the Internet at Lengelmeier@doc.gov).

Written comments and recommendations for the proposed information collection should be sent within 30 days of publication of this notice to David Rostker, OMB Desk Officer, Room 10202, New Executive Office Building, 725 17th Street, NW, Washington, DC 20503.

Dated: March 24, 2000.
Linda Engelmeier,
Departmental Forms Clearance Officer, Office of the Chief Information Officer.

[FR Doc. 00-7810 Filed 3-29-00; 8:45 am]

BILLING CODE 3510-13-P